DEPARTMENT OF TRANSPORTATION

National Highway Traffic Safety Administration

49 CFR Part 571

[Docket No. NHTSA-2003-14711]

RIN 2127-AI49

Federal Motor Vehicle Safety Standards; Child Restraint Anchorage Systems

AGENCY: National Highway Traffic Safety Administration (NHTSA), Department of Transportation.

ACTION: Final rule; interim final rule; request for comments.

SUMMARY: This document amends the Federal motor vehicle safety standard on child restraint anchorage systems to: Reflect an extension of the date by which final-stage manufacturers and alterers were required to install tether anchorages in vehicles subject to the standard; and temporarily exclude “funeral coaches” (as defined in this document) from the standard altogether. It responds to requests from the Recreation Vehicle Industry Association and from Accubuilt, Inc., respectively. This document adopts the first amendment on a final basis and the second on an interim final basis. The agency also requests comments on the second amendment.

DATES: This rule is effective May 8, 2003. The final rule reflects that the mandatory compliance date for installing tether anchorages in vehicles produced by final-stage manufacturers and alterers was changed from September 1, 2000, to May 1, 2001. This rule excludes funeral coaches from Federal Motor Vehicle Safety Standard No. 225 until May 10, 2004. After reviewing the comments received on this document, NHTSA will decide whether to exclude funeral coaches from the standard on a permanent basis. Because these amendments relieve restrictions on a class of manufacturer that comprises a substantial number of small businesses, we have determined that it is in the public interest to make the changes effective immediately.

You should submit your comments early enough to ensure that Docket Management receives them not later than July 7, 2003.

ADDRESSES: Submit written comments to the Docket Management System, U.S. Department of Transportation, PL 401, 400 Seventh Street, SW., Washington, DC 20590-0001. Comments should refer to Docket Number (NHTSA-7938) and be submitted in two copies. If you wish to receive confirmation of receipt of your written comments, include a self-addressed, stamped postcard.

Comments may also be submitted to the docket electronically by logging onto the Docket Management System website at http://dms.dot.gov. Click on “Help & Information” to obtain instructions for filing the comment electronically. In every case, the comment should refer to the docket number.

The Docket Management System is located on the Plaza level of the Nassif Building at the Department of Transportation at the above address. You can review public dockets there between the hours of 9 a.m. and 5 p.m., Monday through Friday, except Federal holidays. You can also review comments on-line at the DOT Docket Management System web site at http://dms.dot.gov.

FOR FURTHER INFORMATION CONTACT: For non-legal questions, Mike Huntley, NHTSA Office of Crashworthiness Standards, Special Vehicle and Systems Division, 400 Seventh St., SW., Washington, DC 20590 (telephone 202-366-0029). For legal questions, Deirdre Fujita, NHTSA Office of Chief Counsel, 400 Seventh St., SW., Washington, DC 20590 (telephone 202-366-2992).

SUPPLEMENTARY INFORMATION:

I. “Petition for Extraordinary Relief” From the Recreation Vehicle Industry Association

Background

On March 5, 1999, NHTSA published a final rule establishing a new Federal motor vehicle safety standard that required motor vehicle manufacturers to install child restraint anchorage systems that are standardized and independent of the vehicle seat belts.¹ (64 FR 10786) (Docket No. 98-3390, Notice 2) (Federal Motor Vehicle Safety Standard No. 225, 49 CFR 571.225.) Each system is composed of three anchorages: Two lower anchorages and one upper anchorage. The lower anchorages are two 6 millimeter (mm) round bars fastened to the vehicle 720 mm apart and located at the intersection of the vehicle seat cushion and seat back. The upper anchorage is a permanent structure to which the hook of a child restraint upper tether may be attached for the purpose of transferring load from the child restraint to the vehicle structure.

¹ See 64 FR 47566; August 31, 1999 (Docket No. NHTSA-99-6160) and 65 FR 46628; July 31, 2000 (Docket No. NHTSA-7648) for later amendments of the rule.

Phase-In Requirements

In the notice of proposed rulemaking (NPRM) for the March 1999 final rule, we recognized that upper tether anchorages could be installed at an earlier date than the lower anchorages (February 20, 1997; 62 FR 7858). We also recognized that more time would be needed to implement a requirement for a rigid bar lower anchorage system (which the final rule ultimately adopted) than an alternative (flexible webbing) lower anchorage system the agency was considering at the time. We requested comments on whether phasing in the requirement for the lower anchorages would be appropriate, and how long a period would be needed to achieve full implementation. We did not raise the possibility of either phasing in the requirement for upper tether anchorages, or delaying the effective date of the upper tether anchorage requirement for vehicles manufactured in more than one stage (see 62 FR at 7874).

Based on the information we received, we adopted a three-year phase-in schedule for the lower anchorages in S14 of Standard No. 225. S14 is titled “Lower anchorages phase-in requirements for vehicles manufactured on or after September 1, 2000 and before September 1, 2002.” In S14.3, which we titled “Alternative phase-in schedule for final-stage manufacturers and alterers,” we specified that a final-stage manufacturer or alterer may, at its option, comply with an alternative requirement during the phase-in. The alternative, specified in S14.3(a), stated that the vehicles “are not required to comply with the requirements specified in this standard” during that two-year period.² The reference in S14.3(a) to “requirements specified in this standard” was intended to refer to only the requirement to install the lower anchorages, and not to both that requirement and the requirement to install tether anchorages. However, RVIA interpreted S14.3 to exclude vehicles produced by final-stage manufacturers and alterers between September 1, 2000 and September 1, 2002 from both the lower anchorage and the tether anchorage requirements.

² This paragraph was later changed to S14.3(a)(2). See 65 FR 46628, 46642, July 31, 2000.

RVIA Petition

RVIA notified us in August 2000 that it had informed its members (conversion vehicle manufacturers and alterers who modify vans, pickup trucks and sport utility vehicles) ³ that their vehicles were excluded from both tether anchorage and lower anchorage requirements until September 1, 2002, and had only learned in August 2000 that this advice was erroneous. RVIA further stated that conversion vehicle manufacturers would not be able to meet the September 1, 2000, compliance date for installation of tether anchorages, having relied on that advice. RVIA requested that NHTSA stay the compliance date for tether anchorages for 8 months, until May 1, 2001, for multistage manufacturers and alterers of conversion vehicles. RVIA stated that 8 months was needed to design, test, and manufacture tether anchorages that would satisfy the standard's tether anchorage requirements.

³ RVIA stated that there are 67 conversion vehicle manufacturer members, with an aggregate annual production of approximately 90,000 vehicles. RVIA stated that, with few exceptions, these companies are small volume manufacturers that each produce fewer than 5,000 total vehicles annually.

Agency Decision on RVIA Petition

We decided to allow multistage manufacturers and alterers until May 1, 2001, to install tether anchorages in their vehicles. We promptly notified RVIA of that decision and placed that notification in the public docket.⁴ The phrase “[requirements specified] in this standard” in S14.3 lent itself to misinterpretation, when read apart from the context of S14, and contributed to RVIA's erroneous advice. Instead of penalizing the affected manufacturers which acted in accordance with RVIA's advice, we decided to postpone the effective date of the tether anchorage requirement to provide the affected manufacturers time to meet the requirement. The affected manufacturers are typically small volume companies. RVIA stated that “[m]ost of these companies had neither the technical staffs nor the resources to respond rapidly to rule changes,” and none had known about the September 1, 2000, compliance date for installing tether anchorages. In view of the fact that most of the companies are small businesses that had acted in reliance on RVIA's advice, we believed that providing relief to the manufacturers was warranted. If a delay had not been granted, the manufacturers would have had to stop production until compliance could be achieved. Cessation of production would have significant economic effects on the small businesses. For these reasons, we concluded that it was in the public interest to postpone the compliance date of the requirement for vehicles produced by final-stage manufacturers and alterers until May 1, 2001.⁵ Today's document clarifies the language in S14, and similar language in S13.

⁴ In response to RVIA's petition, NHTSA wrote to RVIA on September 26, 2000, stating that it would publish a Federal Register document extending, until May 1, 2001, the date by which final-stage manufacturers and alters must install tether anchorage in affected vehicles. See docket 7648 (document 7648-6).

⁵ Mr. Harley Holt asked NHTSA about the degree to which anchorages voluntarily installed by final-stage manufacturers and alterers were subject to the requirements of Standard No. 225. Our answer was that the provisions of S4.1 as they relate to voluntarily-installed anchorages still applied. Thus, if a final-stage manufacturer or alterer voluntarily installed a tether anchorage system (or full child restraint anchorage system) in a vehicle from September 1, 1999 to April 30, 2001, the anchorage system would have to meet the configuration, location, marking and strength requirements of the standard. S4.1 also requires that information on using those anchorages must be provided to the vehicle owner. It is also our view that during the same period, a final-stage manufacturer or alterer voluntarily installing tether anchorages could have installed fewer than the minimum number of anchorages required by S4.3 and S4.5. On vehicles produced on or after May 1, 2001, the requisite number of anchorages must be installed.

II. Petition for Rulemaking From Accubuilt on Funeral Coaches

Standard No. 225 requires a vehicle to be equipped with tether anchorages in front passenger seating positions if: (1) The vehicle lacks a rear designated seating position (see S4.3(b)(3) and S4.4(c)); and (2) there is an air bag and no air bag on-off switch in the front passenger seating position. Accubuilt, a final-stage manufacturer of funeral coaches, submitted a petition for rulemaking requesting NHTSA to exclude funeral coaches from the requirement. Accubuilt stated that: “[s]ince a Funeral Coach is a single purpose vehicle, transporting a body and casket, children do not ride in the front seat.”

Agency Decision on Accubuilt Request

It is implicit from Accubuilt's petition that it would be appropriate to exclude funeral coaches from the requirement when the coaches only have one row of occupant seats, i.e., the front row. We agree with Accubuilt that it is unlikely that child restraint systems would be installed in such a funeral coach. We are thus excluding “funeral coaches” from the standard.

To implement this exclusion, we are adding a definition of “funeral coach” to Standard No. 225. Accubuilt stated that a funeral coach is a “single purpose vehicle” equipped with heavy duty components to handle the additional mass of a body and casket. We were further informed by Accubuilt that manufacturers of funeral coaches conform to an industry standard that requires “front and rear stops” in the interior of the coach to keep the casket stationary. We are incorporating that information into the definition.

At the same time, while Accubuilt's vehicles apparently have only 1 row of seats, it is conceivable that a funeral coach could be built with rear seating positions in which a young child might ride. We do not believe that a coach that has rear seating positions should be excluded from the standard, since the vehicle could be used to transport a child who should be in a child restraint. Therefore, based on the above, we are defining “funeral coach” as “a vehicle that contains only a front row of occupant seats, is designed exclusively for transporting a body and casket and that is equipped with features to secure a casket in place during operation of the vehicle.” Comments are requested on whether the definition is inclusive of all funeral coaches with no rear seating positions and whether it excludes any vehicles that should be subject to the requirements of Standard No. 225.

We have also determined that this amendment relieves an unnecessary restriction on a group of small manufacturers. Accordingly, NHTSA finds for good cause that an immediate exclusion of funeral coaches from the standard is in the public interest, and thus we are issuing this interim final rule. We are limiting the exclusion to a period ending one year after the publication of this rule. NHTSA will review the comments we receive on this document to determine whether to exclude funeral coaches from the standard on a permanent basis.

III. Enforcement Policy Statement

This agency will not take any enforcement against any multi-stage vehicle manufacturer or alterer for not installing tether anchorages in vehicles certified prior to May 1, 2001. Likewise, it will not take any enforcement action against any manufacturer of funeral coaches for not installing a child restraint anchorage system in the front seats of funeral coaches manufactured prior to the date one year after the publication of this rule.

IV. Rulemaking Analyses and Notices

Executive Order 12866 (Federal Regulation) and DOT Regulatory Policies and Procedures

This rulemaking document was not reviewed under E.O. 12866, “Regulatory Planning and Review.” The agency has considered the impact of this rulemaking action under the Department of Transportation's regulatory policies and procedures, and has determined that it is not “significant” under them. This document amends Standard No. 225 to reflect the staying of the compliance date of one aspect of the Standard as it applies to final stage manufacturers and alterers, and excludes funeral coaches from the standard for a period ending 1 year after the publication of this rule. There are no additional costs associated with this final rule.

Regulatory Flexibility Act

The Regulatory Flexibility Act of 1980 (Pub. L. 96-354), as amended, requires agencies to evaluate the potential effects of their proposed and final rules on small businesses, small organizations and small governmental jurisdictions. I hereby certify that this rule will not have a significant economic impact on a substantial number of small entities. It amends the Standard to reflect the staying of the compliance date of the tether anchorage requirement as applied to final stage manufacturers and alterers, and for that reason affects a number of small entities. A decision not to stay the compliance date would have significantly affected the entities since the manufacturers could not have produced their vehicles until the tether anchorage requirements in question were met. We provided more time to the manufacturers to facilitate their compliance with the standard.

Executive Order 13132 (Federalism)

NHTSA has analyzed this rule in accordance with the principles and criteria contained in E.O. 13132, and has determined that it does not have sufficient federalism implications to warrant consultation with State and local officials or the preparation of a federalism summary impact statement. The rule will not have any substantial effects on the States, or on the current Federal-State relationship, or on the current distribution of power and responsibilities among the various local officials.

National Environmental Policy Act

NHTSA has analyzed this rulemaking action for the purposes of the National Environmental Policy Act. The agency has determined that implementation of this action will not have any significant impact on the quality of the human environment.

Executive Order 12778 (Civil Justice Reform)

This rule will not have any retroactive effect. A petition for reconsideration or other administrative proceeding will not be a prerequisite to an action seeking judicial review of this rule. This rule will not preempt the states from adopting laws or regulations on the same subject, except that it will preempt a state regulation that is in actual conflict with the Federal regulation or makes compliance with the Federal regulation impossible or interferes with the implementation of the Federal statute.

Comments

How Do I Prepare and Submit Comments?

Your comments must be written and in English. To ensure that your comments are correctly filed in the Docket, please include the docket number of this document in your comments.

Your comments must not be more than 15 pages long. (49 CFR 553.21). We established this limit to encourage you to write your primary comments in a concise fashion. However, you may attach necessary additional documents to your comments. There is no limit on the length of the attachments.

Please submit two copies of your comments, including the attachments, to Docket Management at the address given above under ADDRESSES.

How Can I Be Sure That My Comments Were Received?

If you wish Docket Management to notify you upon its receipt of your comments, enclose a self-addressed, stamped postcard in the envelope containing your comments. Upon receiving your comments, Docket Management will return the postcard by mail.

How Do I Submit Confidential Business Information?

If you wish to submit any information under a claim of confidentiality, you should submit three copies of your complete submission, including the information you claim to be confidential business information, to the Chief Counsel, NHTSA, at the address given above under FOR FURTHER INFORMATION CONTACT. In addition, you should submit two copies, from which you have deleted the claimed confidential business information, to Docket Management at the address given above under ADDRESSES. When you send a comment containing information claimed to be confidential business information, you should include a cover letter setting forth the information specified in our confidential business information regulation. (49 CFR part 512.)

Will the Agency Consider Late Comments?

We will consider all comments that Docket Management receives before the close of business on the comment closing date indicated above under DATES. To the extent possible, we will also consider comments that Docket Management receives after that date.

How Can I Read the Comments Submitted by Other People?

You may read the comments received by Docket Management at the address given above under ADDRESSES. The hours of the Docket are indicated above in the same location.

You may also see the comments on the Internet. To read the comments on the Internet, take the following steps:

(1) Go to the Docket Management System (DMS) Web page of the Department of Transportation (http://dms.dot.gov/).

(2) On that page, click on “search.”

(3) On the next page (http://dms.dot.gov/search/), type in the four-digit docket number shown at the beginning of this document. Example: If the docket number were “NHTSA-1999-1234,” you would type “1234.” After typing the docket number, click on “search.”

(4) On the next page, which contains docket summary information for the docket you selected, click on the desired comments. You may word search the Adobe pdf version of a comment by clicking on the binocular symbol (Acrobat Find) and typing in a search term. You may also download the comments.

Please note that even after the comment closing date, we will continue to file relevant information in the Docket as it becomes available. Further, some people may submit late comments. Accordingly, we recommend that you periodically check the Docket for new material.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

List of Subjects in 49 CFR Part 571

Imports, Incorporation by reference, Motor vehicle safety, Reporting and recordkeeping requirements, Tires.

In consideration of the foregoing, NHTSA amends 49 CFR Chapter V as set forth below.

PART 571—FEDERAL MOTOR VEHICLE SAFETY STANDARDS

1. The authority citation for part 571 continues to read as follows:

Authority: 49 U.S.C. 322, 30111, 30115, 30166 and 30177; delegation of authority at 49 CFR 1.50.

2. Section 571.225 is amended by:

a. Revising S2;

b. Amending S3 by adding, in alphabetical order, a definition for “Funeral coach”;

c. Revising the introductory text of S4.3(b);

d. Revising the title of S13 and adding S13.3; and

e. Revising S14.3(a).

The revised and added text read as follows:

571.225 Standard No. 225; Child restraint anchorage systems.

* * * * *

S2. Application. This standard applies to passenger cars; to trucks and multipurpose passenger vehicles with a gross vehicle weight rating (GVWR) of 3,855 kilograms (8,500 pounds) or less; and to buses (including school buses) with a GVWR of 4,536 kg (10,000 lb) or less. This standard does not apply to walk-in van-type vehicles, vehicles manufactured to be sold exclusively to the U.S. Postal Service, shuttle buses, and funeral coaches.

S3. Definitions.

* * * * *

Funeral coach means a vehicle that contains only a front row of occupant seats, is designed exclusively for transporting a body and casket and that is equipped with features to secure a casket in place during operation of the vehicle.

* * * * *

S4.3 * * *

(b) Each vehicle, including a vehicle that is counted toward the percentage of a manufacturer's yearly production required to be equipped with child restraint anchorage systems, shall be equipped as described in S4.3(b)(1), (2) or (3), subject to S13.

* * * * *

S13. Tether anchorage phase-in requirements.

* * * * *

S13.3 Until May 1, 2001, vehicles manufactured by a final-stage manufacturer or alterer need not be equipped with the tether anchorages required by S4.3 of this standard. Vehicles manufactured by a final-stage manufacturer or alterer on or after May 1, 2001 must be equipped with the tether anchorages specified in S4.3.

* * * * *

S14.3 * * *—(a) Final-stage manufacturers and alterers. A final-stage manufacturer or alterer may, at its option, comply with the requirements set forth in S14.3(a)(1) and (2), instead of the requirements set forth in S14.1.1 through S14.1.2.

(1) Vehicles manufactured on or after September 1, 2000 and before September 1, 2002 are not required to be equipped with the lower anchorages specified in this standard.

(2) Vehicles manufactured on or after September 1, 2002 must be equipped with the lower anchorages specified in this standard.

* * * * *

Issued on May 1, 2003.
Jeffrey W. Runge,
Administrator.

[FR Doc. 03-11293 Filed 5-7-03; 8:45 am]

BILLING CODE 4910-59-P